DEPARTMENT OF ENERGY

Federal Energy Regulatory Commission

[Docket No. EC00-67-000, et al.]

Louisville Gas and Electric Company, et al.; Electric Rate and Corporate Regulation Filings

March 30, 2000.

Take notice that the following filings have been made with the Commission:

1. Louisville Gas and Electric Company, and Merger Sub

[Docket No. EC00-67-000]

Take notice that on March 24, 2000, Louisville Gas and Electric Company (LG&E) and Kentucky Utilities Company (KU) on behalf of themselves and their affiliates holding jurisdictional assets (collectively, the LG&E Companies) and Merger Sub, submitted for filing an application under Section 203 of the Federal Power Act (16 U.S.C. 824b) and Part 33 of the Commission's Regulations (18 CFR 33.1) seeking the Commission's approval and related authorizations to effectuate the indirect change in control over jurisdictional assets of the LG&E companies that will occur as a result of the merger of an indirect, wholly-owned subsidiary of PowerGen plc (Merger Sub) with and into LG&E Energy Corp. (LEC), the parent holding company of the LG&E Companies. Through the merger, LEC, which will be the surviving entity, and the LG&E Companies will become indirect, wholly-owned subsidiaries of PowerGen plc (“PowerGen”), a public limited company organized under the laws of England and Wales.

The Application requests waiver of the requirements to file exhibits B, C, D, E, and F as specified in Section 33.3 of the Commission's regulations. The Application states that it includes all other information and exhibits required by Part 33 of the Commission's regulations and the Commission's Merger Policy Statement, and that the Merger Application easily satisfies the criteria set forth in the Commission's Merger Policy Statement. The Application requests that the Commission grant approval without condition, modification or an evidentiary, trial-type hearing. The Application states that the parties are seeking to close the transaction expeditiously and thus the Applicants have requested Commission approval by the end of July, 2000.

The Applicants have served copies of the filing on the state commissions of Kentucky, Virginia, and Tennessee and the parties of Docket No. EC98-2-000.

Comment date: May 23, 2000, in accordance with Standard Paragraph E at the end of this notice.

2. The FirstEnergy Operating Companies

[Docket Nos. ER97-412-004, ER97-413-003 and ER98-1932-001]

Take notice that on March 24, 2000, the FirstEnergy Operating Companies tendered for filing a compliance refund report pursuant to the Commission's February 9, 2000 Letter Order, 90 FERC ¶ 61,111.

The FirstEnergy Operating Companies state that a copy of the filing has been served on the customers receiving refunds and the public utilities commissions of Ohio and Pennsylvania.

Comment date: April 14, 2000, in accordance with Standard Paragraph E at the end of this notice.

3. Northern Indiana Public Service Company and NIPSCO Energy Services, Inc.

[Docket Nos. ER97-458-003 and ER96-1431-012]

Take notice that on March 23, 2000, Northern Indiana Public Service Company and NESI Power Marketing, Inc. submitted an updated market power analysis. The market power analysis is required by the orders granting authority to make power sales at market-based rates.

Comment date: April 13, 2000, in accordance with Standard Paragraph E at the end of this notice.

4. Select Energy, Inc.

[Docket No. ER00-952-001]

Take notice that on March 24, 2000, Select Energy, Inc. (Select) tendered revisions to its market-based rate tariffs in compliance with the Commission's February 23, 2000 order in this proceeding.

Select states that a copy of this filing has been sent to all purchasers under the affected rate schedules and to all persons designated for service on the official service list for this proceeding.

Comment date: April 14, 2000, in accordance with Standard Paragraph E at the end of this notice.

5. The Connecticut Light and Power Company

[Docket No. ER00-963-001]

Take notice that on March 24, 2000, The Connecticut Light and Power Company (CL&P) tendered revisions to its market-based rate tariff in compliance with the Commission's February 23, 2000 order in this proceeding.

CL&P states that a copy of this filing has been sent to all purchasers under the affected rate schedules and to all persons designated for service on the official service list in this proceeding.

Comment date: April 14, 2000, in accordance with Standard Paragraph E at the end of this notice.

6. North American Power Brokers, Inc.

[Docket No. ER00-1973-000]

Take notice that on March 24, 2000, North American Power Brokers, Inc. filed a Notice of Succession notifying the Commission that North American Power Brokers, Inc. has changed its name to Enermetrix.com.

Comment date: April 14, 2000, in accordance with Standard Paragraph E at the end of this notice.

7. Sarah M. Barpoulis, Anthony Chovanec, William A. Collier, Mark C. Cowan, Michael E. Flinn, J. Stephen Gilbert, Anthony G. Haramis, Lyndell E. Maddox, Leslie K. McNew, James M. Richter, Stanley A. Ross, Kyle B. Sherrington, Daniel A. Valenti and Deborah F. Witmer

[Docket Nos. ID-3467-000, ID-3468-000, ID-3469-000, ID-3141-003, ID-3470-000, ID-3147-002, ID-3471-000, ID-3137-003, ID-3472-000, ID-3144-002, ID-3473-000, ID-3474-000, ID-3475-000, and ID-3476-000]

Take notice that on March 21, 2000, PG&E Energy Trading—Power Holdings Corporation, with its principal place of business at 1100 Louisiana, Suite 1000, Houston, Texas 77002 filed with the Federal Energy Regulatory Commission an application for authority to hold interlocking positions on behalf of its directors and officers (Applicants), under Section 305(b) of the Federal Power Act, 16 U.S.C. 825(b).

Comment date: April 20, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-8896 Filed 4-10-00; 8:45 am]

BILLING CODE 6717-01-P